FEDERAL COMMUNICATIONS COMMISSION

47 CFR Parts 1 and 17

[WT Docket No. 03-187; DA 07-72]

Effect of Communications Towers on Migratory Birds

AGENCY: Federal Communications Commission.

ACTION: Proposed rule, extension of comment and reply comment periods.

SUMMARY: This document grants a motion requesting an extension of time to file comments and reply comments in response to a Notice of Proposed Rulemaking concerning the effects of communications towers on migratory birds that the Commission released on November 7, 2006.

DATES: Comments on the Notice of Proposed Rulemaking published November 22, 2006 (71 FR 67510) are due on or before April 23, 2007, and reply comments are due on or before May 23, 2007.

ADDRESSES: You may submit comments, identified by WT Docket No. 03-187, FCC 06-164, by any of the following methods:

• Federal eRulemaking Portal: http://www.regulations.gov. Follow the instructions for submitting comments.

• Federal Communications Commission's Web Site: http://www.fcc.gov/cgb/ecfs/. Follow the instructions for submitting comments.

• E-mail: ecfs@fcc.gov, and include the following words in the body of the message, “get form.” A sample form and directions will be sent in response.

• Mail: Federal Communications Commission, 445 12th Street, SW., Washington, DC 20554.

• Hand Delivery/Courier: 236 Massachusetts Avenue, NE., Suite 110, Washington, DC 20002.

• Accessible Formats: Contact the FCC to request reasonable accommodations (accessible format documents, sign language interpreters, CART, etc.) for filing comments either by e-mail: FCC504@fcc.gov or phone: 202-418-0530 or TTY: 202-418-0432.

Instructions: All submissions received must include the agency name and docket number for this rulemaking, WT Docket No. 03-187. All comments received will be posted without change to http://www.fcc.gov/cgb/ecfs/, including any personal information provided. For detailed instructions on submitting comments and additional information on the rulemaking process, see the “Public Participation” heading of the SUPPLEMENTARY INFORMATION section of this document.

Docket: For access to the docket to read background documents or comments received, go to http://www.fcc.gov/cgb/ecfs/.

FOR FURTHER INFORMATION CONTACT: Louis Peraertz, Spectrum and Competition Policy Division, Wireless Telecommunications Bureau, Federal Communications Commission, (202) 418-1879.

SUPPLEMENTARY INFORMATION: This is a summary of the Commission's Order released January 12, 2007. The complete text of the Order is available for inspection and copying during normal business hours in the FCC Reference Information Center, Portals II, 445 12th Street, SW., Room CY-A257, Washington, DC 20554. The document may also be purchased from the Commission's duplicating contractor, Best Copy and Printing, Inc., 445 12th Street, SW., Room CY-B402, Washington, DC 20554, telephone (800) 378-3160 or (202) 863-2893, facsimile (202) 863-2898, or via e-mail at http://www.bcpiweb.com. It is also available on the Commission's Web site at http://www.fcc.gov.

By the Order, the Wireless Telecommunications Bureau grants a motion requesting an extension of the dates for filing comments and reply comments in response to In the Matter of Effects of Communications Towers on Migratory Birds, Notice of Proposed Rulemaking, WT Docket No. 03-187, which the Commission adopted on November 3, 2006, and released on November 7, 2006. On January 8, 2007, the American Bird Conservancy, CTIA—The Wireless Association, Defenders of Wildlife, the National Association of Tower Erectors, and PCIA—the Wireless Infrastructure Association filed a joint Motion for Extension of Time. Although it is the policy of the Commission that extensions of time shall not be routinely granted, the WCB determined that, given the parties' agreement that the additional time would benefit discussions related to avian tower safety, good cause exists to provide parties an extension of time for filing comments, from January 22, 2007, to April 23, 2007, and an extension of time for filing reply comments from February 20, 2007, to May 23, 2007.

Accordingly, it is ordered that, pursuant to authority found in section 4(i) of the Communications Act of 1934, as amended, 47 U.S.C. 154(i), and §§ 0.131, 0.331 and 1.46 of the Commission's rules, 47 CFR 0.131, 0.331, 1.46, the pleading cycle established in this matter is modified as follows:

Comments Due: April 23, 2007; Reply Comments Due: May 23, 2007. All other filing procedures remain unchanged from those previously established in this proceeding. It is further ordered that the joint Motion for Extension of Time filed by the American Bird Conservancy, CTIA—The Wireless Association, Defenders of Wildlife, the National Association of Tower Erectors, and PCIA—the Wireless Infrastructure Association, is granted as set forth herein.

Federal Communications Commission.
Fred B. Campbell, Jr.,
Chief, Wireless Telecommunications Bureau.

[FR Doc. E7-1190 Filed 1-25-07; 8:45 am]

BILLING CODE 6712-01-P